DEPARTMENT OF AGRICULTURE

Forest Service

Forest Plan Amendment for Travel Management of the Road and Trail System on the Gallatin National Forest, Montana; Gallatin National Forest; Sweet Grass, Park, Carbon, Gallatin, Madison, and Meagher Counties, Montana

AGENCY: Forest Service USDA.

ACTION: Notice; intent to prepare environmental impact statement.

SUMMARY: The USDA, Forest Service, will prepare an environmental impact statement (EIS) to disclose the environmental effects of a proposed amendment to the Gallatin National Forest Land and Resource Management Plan (Forest Plan) that will establish direction for public recreational use and access using the Forest's road and trail system. For each road and trail the Amendment will specify the types of uses that are appropriate including pleasure driving, high clearance and off-road vehicle use, motorcycle use, biking, horseback riding, snowmobiling, hiking, skiing and snowshoeing. The amendment will also establish travel management goals, objectives and standards for sub-areas within the Gallatin National Forest.

The Gallatin National Forest Land and Resource Management Plan (Forest Plan) provides overall guidance for land management activities that occur on the Forest. Forest plans are developed, revised, and amended in compliance with the National Forest Management Act of 1976 (NFMA); and the regulations for National Forest Land and Resource Management Planning at 36 CFR part 219. This amendment would remove some existing Forest Plan provisions pertaining to travel management and replace them with an overall travel management plan specific to roads and trails. A range of 4 to 6 alternatives are targeted for consideration in the travel planning process.

DATES: Alternatives are expected to be ready for public review and comment by February or March, 2003. Requests to receive information and notification of opportunities to provide comments should be received prior to that time.

ADDRESSES: Requests to be placed on the travel planning mailing list should be sent to Pam Bentley, Gallatin National Forest Supervisors Office, P.O. Box 130, Bozeman, Montana, 59771-0130.

FOR FURTHER INFORMATION CONTACT: Steve Christiansen, Travel Planning Interdisciplinary Team Leader, Gallatin National Forest Supervisors Office, (406) 587-6750.

SUPPLEMENTARY INFORMATION: The Gallatin National Forest includes approximately 1.9 million acres of public land adjacent to the northern and western boundaries of Yellowstone National Park. It lies within all or portions of Sweet Grass, Park, Carbon, Meagher, Gallatin, and Madison Counties, Montana. Local communities include Bozeman, Big Sky, West Yellowstone, Livingston, Big Timber, Gardiner, and Cooke City, Montana. There are over 1300 miles of road and 2300 miles of trail accessing the Forest that facilitate a variety of management activities and provide opportunities for public recreation use. In general, the road and trail system and recreation use of the Forest has evolved incrementally over many decades based on site-specific demands and capabilities. There has never been a comprehensive evaluation on whether it is the best way to provide for these demands in conjunction with other resources uses and land stewardship needs. Due to changing and increasing trends in recreation use, recent acquisitions of over 150,000 acres of land into public ownership, and other resource and environmental issues, the Forest Service believes that it is timely to establish a forest-wide travel management plan and incorporate it into the Forest Plan.

The purpose for a Gallatin National Forest Travel Management Plan and Amendment are to: (1) Provide for public access and recreational demand of the road and trail system on the Forest considering both the quantity and quality of opportunity to be provided. (2) Bring road and trail use into compliance with laws, regulations, and other higher level management direction. (3) Correct unacceptable resource damage that may be occurring due to the use of or condition of Forest roads and trails. (4) Provide for public understanding of the types of use and season of use allowed for each road and trail. (5) Identify administrative access routes to facilitate management of a variety of resources on the Gallatin National Forest. (6) Replace outdated, ineffective, and/or unclear Forest Plan standards and other direction applicable to road and trail management.

As a beginning to the travel planning process the Forest Service has prepared a “benchmark” travel management plan alternative. The benchmark is not considered an agency proposal or preferred alternative because it does not have the benefit of public input or preliminary environmental analysis. It has been developed as a conceptual travel management plan to focus interested citizen and user group participation and initial environmental analysis from Forest Service specialists. Based on early public comment and analysis the benchmark will be used to develop a range of 4 to 6 alternatives that represent various interests and respond to environmental issues. The alternatives will represent “proposed options” for a travel management plan and will be made available for review, comment, and modification during the late winter/early spring of 2003. The benchmark can be viewed on the Gallatin National Forest Web site at http://www.fs.fed.us/rl/gallatin/travel_planning. A copy can also be obtained on CD by calling or writing the contact persons identified above.

Comments on the alternatives from the public and other agencies will be used in preparation of a Draft Environmental Impact Statement (DEIS). More specifically, comments will be used to modify and refine the alternatives and identify potential resource issues (environmental effects) that should be considered in analysis.

The Draft EIS is expected to be filed with the Environmental Protection Agency (EPA) and available for public review on January of 2004. At that time, the EPA will publish a Notice of Availability of the Draft EIS in the Federal Register. The comment period on the Draft EIS will be 90 days from the date the EPA's notice of availability appears in the Federal Register. The Final EIS is scheduled for completion in the spring of 2004.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate during comment periods provided so that substantive comments and objections are made available to the Forest Service at a time when they can meaningfully consider them. To assist the Forest Service in identifying and considering issues, comments should be specific to concerns associated with the management of roads and trails on the Gallatin National Forest. Reviewers may wish to refer to the Council on Environmental Quality Regulations for implementing the procedural provisions of the National Environmental Policy Act at 40 CFR 1503.3 in structuring comments.

I am the responsible official for this Environmental Impact Statement and the ultimate decision for a Gallatin National Forest Travel Management Plan and Forest Plan Amendment. My address is Forest Supervisor, Gallatin National Forest, P.O. Box 130, Federal Building, Bozeman, MT 59771.

Dated: December 4, 2002.
Rebecca Heath,
Forest Supervisor.

[FR Doc. 02-31397 Filed 12-12-02; 8:45 am]

BILLING CODE 3410-11-M